DEPARTMENT OF DEFENSE

Office of the Secretary

[Transmittal No. 23-63]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-63, and Policy Justification.

Dated: November 14, 2024.
Stephanie J. Bost,
Alternate OSD Federal Register Liaison Officer, Department of Defense.

BILLING CODE 6001-FR-P

BILLING CODE 6001-FR-C

Transmittal No. 23-63

Notice of Proposed Issuance of Letter of Offer Pursuant to Section 36(b)(1) of the Arms Export Control Act, as amended

(i) Prospective Purchaser: Government of Iraq

(ii) Total Estimated Value:

Major Defense Equipment * | $ 0
Other | $300 million
TOTAL | $300 million

Funding Source: Foreign Military Financing

(iii) Description and Quantity or Quantities of Articles or Services under Consideration for Purchase: Foreign Military Sales (FMS) case IQ-B-AQJ was below the congressional notification threshold at $28 million ($0 in MDE) and included a Bell Contracted Logistics Support (CLS) and Field Service Representative (FSR) contract in support of the following types of Bell aircraft: three (3) 407 variants, 206B3, OH-58A/C Kiowa, and Huey II. The Government of Iraq has requested the case be amended to include additional option years on the current contract and to add contract support for Bell 505 aircraft as indicated below. This amendment will push the current case above the total case value notification threshold and thus requires notification of the entire case.

Major Defense Equipment (MDE):

None

Non-MDE:

Bell Contracted Logistics Support (CLS) and Field Service Representative (FSR) maintenance in support of the following Bell aircraft: three (3) 407 variants, 206B3, OH-58A/C Kiowa, Huey II and 505. Also included is U.S. Government and contractor engineering, technical and logistics support services; studies and surveys; and other related elements of logistics and program support.

(iv) Military Department: Army (IQ-B-AQJ)

(v) Prior Related Cases, if any: IQ-B-UDZ, IQ-B-ADQ

(vi) Sales Commission, Fee, etc., Paid, Offered, or Agreed to be Paid: None known at this time

(vii) Sensitivity of Technology Contained in the Defense Article or Defense Services Proposed to be Sold: None

(viii) Date Report Delivered to Congress: November 2, 2023

* As defined in Section 47(6) of the Arms Export Control Act.

POLICY JUSTIFICATION

Iraq—Bell Helicopter Contracted Logistics Support (CLS)

The Government of Iraq has requested to buy additional services, as indicated below, that will be added to a previously implemented case whose value was under the congressional notification threshold. The original FMS case, valued at $28 million, included a Bell Contracted Logistics Support (CLS) and Field Service Representative (FSR) contract. This notification is for the combined CLS and FSR maintenance support for the following Bell aircraft: three (3) 407 variants, 206B3, OH-58A/C Kiowa, Huey II and 505. Also included is U.S. Government and contractor engineering, technical and logistics support services; studies and surveys; and other related elements of logistics and program support. The estimated total cost is $300 million.

This proposed sale will support the foreign policy and national security of the United States (U.S.) by helping to improve the security of a strategic partner.

The proposed sale will improve the Republic of Iraq's capability to meet current and future threats by enhancing the strength of its homeland defense. The Republic of Iraq will have no difficulty absorbing these services into its armed forces.

The proposed sale of this equipment and support will not alter the basic military balance in the region.

The principal contractor will be Bell Helicopter Company, Fort Worth, TX. There are no known offset agreements proposed in connection with this potential sale.

Implementation of this proposed sale will require the assignment of four (4) additional U.S. Government or contractor representatives to Iraq for a duration of one (1) year to support CLS for Bell 505 aircraft. There are currently seven (7) U.S. Government or contractor representatives in Iraq that will stay an additional two (2) years to provide support for the contract option years for CLS and FSR service support for the three (3) 407 variants, 206B3, OH-58A/C and Huey II aircraft.

There will be no adverse impact on U.S. defense readiness as a result of this proposed sale.

[FR Doc. 2024-26988 Filed 11-19-24; 8:45 am]

BILLING CODE 6001-FR-P